DEPARTMENT OF ENERGY

Federal Energy Regulatory Commission

Notice of FERC Staff Attendance at Southwest Power Pool Board of Directors Meeting

May 27, 2009.

The Federal Energy Regulatory Commission hereby gives notice that members of its staff may attend the meeting of the Southwest Power Pool (SPP) Board of Directors, as noted below. Their attendance is part of the Commission's ongoing outreach efforts.

SPP Board of Directors—Educational Meeting

June 8, 2009 (12 p.m.-5:30 p.m.).

June 9, 2009 (8 a.m.-5 p.m.).

University of Arkansas at Little Rock, Bailey Center, 2801 South University Avenue, Little Rock, AR 72204, 501-683-7208.

The discussions may address matters at issue in the following proceedings:

Docket No. ER06-451, Southwest Power Pool, Inc.

Docket Nos. ER07-319 and EL07-73, Southwest Power Pool, Inc.

Docket No. ER07-371, Southwest Power Pool, Inc.

Docket No. ER07-1255, Southwest Power Pool, Inc.

Docket No. ER08-923, Southwest Power Pool, Inc.

Docket No. ER08-1307, Southwest Power Pool, Inc.

Docket No. ER08-1308, Southwest Power Pool, Inc.

Docket No. ER08-1357, Southwest Power Pool, Inc.

Docket No. ER08-1358, Southwest Power Pool, Inc.

Docket No. ER08-1419, Southwest Power Pool, Inc.

Docket No. ER08-1516, Southwest Power Pool, Inc.

Docket No. EL08-80, Oklahoma Corporation Commission.

Docket No. ER09-35, Tallgrass Transmission LLC.

Docket No. ER09-36, Prairie Wind Transmission LLC.

Docket No. ER09-149, Southwest Power Pool, Inc.

Docket No. ER09-262, Southwest Power Pool, Inc.

Docket No. ER09-336, Southwest Power Pool, Inc.

Docket No. ER09-342, Southwest Power Pool, Inc.

Docket No. ER09-443, Southwest Power Pool, Inc.

Docket No. ER09-659, Southwest Power Pool, Inc.

Docket No. ER09-748, Southwest Power Pool, Inc.

Docket No. ER09-883, Southwest Power Pool, Inc.

Docket No. ER09-1039, Southwest Power Pool, Inc.

Docket No. ER09-1042, Southwest Power Pool, Inc.

Docket No. ER09-1055, Southwest Power Pool, Inc.

Docket No. ER09-1056, Southwest Power Pool, Inc.

Docket No. ER09-1057, Southwest Power Pool, Inc.

Docket No. ER09-1068, Southwest Power Pool, Inc.

Docket No. ER09-1080, Southwest Power Pool, Inc.

Docket No. ER09-1130, Southwest Power Pool, Inc.

Docket No. ER09-1140, Southwest Power Pool, Inc.

Docket No. ER09-1152, Southwest Power Pool, Inc.

Docket No. ER09-1172, Southwest Power Pool, Inc.

Docket No. ER09-1174, Southwest Power Pool, Inc.

Docket No. ER09-1177, Southwest Power Pool, Inc.

Docket No. ER09-1192, Southwest Power Pool, Inc.

Docket No. OA08-5 and EL09-40, Southwest Power Pool, Inc.

Docket No. OA08-60, Southwest Power Pool, Inc.

Docket No. OA08-61, Southwest Power Pool, Inc.

Docket No. OA08-104, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. E9-12867 Filed 6-2-09; 8:45 am]

BILLING CODE 6717-01-P